DEPARTMENT OF THE TREASURY

Office of Foreign Assets Control

31 CFR Part 587

Publication of Russian Harmful Foreign Activities Sanctions Regulations Web General Licenses 53A, 55C, 113, and 114

AGENCY: Office of Foreign Assets Control, Treasury.

ACTION: Publication of web general licenses.

SUMMARY: The Department of the Treasury's Office of Foreign Assets Control (OFAC) is publishing four general licenses (GLs) issued pursuant to the Russian Harmful Foreign Activities Sanctions Regulations: GLs 53A, 55C, 113, and 114, each of which was previously made available on OFAC's website.

DATES: GLs 53A, 55C, 113, and 114 were issued on November 21, 2024. See SUPPLEMENTARY INFORMATION for additional relevant dates.

FOR FURTHER INFORMATION CONTACT: OFAC: Assistant Director for Licensing, 202-622-2480; Assistant Director for Regulatory Affairs, 202-622-4855; or Assistant Director for Compliance, 202-622-2490 or https://ofac.treasury.gov/contact-ofac.

SUPPLEMENTARY INFORMATION:

Electronic Availability

This document and additional information concerning OFAC are available on OFAC's website: https://ofac.treasury.gov/.

Background

On November 21, 2024, OFAC issued GLs 53A, 55C, 113, and 114 to authorize certain transactions otherwise prohibited by the Russian Harmful Foreign Activities Sanctions Regulations, 31 CFR part 587. Each GL was made available on OFAC's website (https://ofac.treasury.gov) when it was issued. GL 53A replaced and superseded GL 53. GL 55C replaced and superseded GL 55B. GL 55C has an expiration date of June 28, 2025; GLs 113 and 114 each have an expiration date of December 20, 2024. The text of these GL is provided below.

OFFICE OF FOREIGN ASSETS CONTROL

Russian Harmful Foreign Activities Sanctions Regulations 31 CFR Part 587

GENERAL LICENSE NO. 53A

Authorizing Transactions for Diplomatic Missions of the Russian Federation Involving Gazprombank Joint Stock Company or Prohibited by Directive 4 Under Executive Order 14024

(a) Except as provided in paragraph (c) of this general license, U.S. persons are authorized to engage in all transactions ordinarily incident and necessary to the official business of diplomatic or consular missions of the Government of the Russian Federation (“Russian missions”) that are prohibited by Executive Order (E.O.) 14024 and involve Gazprombank Joint Stock Company (Gazprombank), or any entity in which Gazprombank owns, directly or indirectly, a 50 percent or greater interest, or are prohibited by Directive 4 under E.O. 14024, Prohibitions Related to Transactions Involving the Central Bank of the Russian Federation, the National Wealth Fund of the Russian Federation, and the Ministry of Finance of the Russian Federation.

(b) Except as provided in paragraph (c) of this general license, U.S. persons are authorized to engage in all transactions ordinarily incident and necessary to the compensation of employees of Russian missions, including payment of salaries and reimbursement of expenses, that are prohibited by E.O. 14024 and involve Gazprombank, or any entity in which Gazprombank owns, directly or indirectly, a 50 percent or greater interest, or are prohibited by Directive 4 under E.O. 14024.

(c) This general license does not authorize:

(1) Any transactions prohibited by Directive 2 under E.O. 14024, Prohibitions Related to Correspondent or Payable-Through Accounts and Processing of Transactions Involving Certain Foreign Financial Institutions;

(2) Any debit to an account on the books of a U.S. financial institution of the Central Bank of the Russian Federation, the National Wealth Fund of the Russian Federation, or the Ministry of Finance of the Russian Federation; or

(3) Any transactions otherwise prohibited by the Russian Harmful Foreign Activities Sanctions Regulations, 31 CFR part 587 (RuHSR), including transactions involving any person blocked pursuant to the RuHSR, other than blocked persons described in paragraph (a) of this general license, unless separately authorized.

(c) Effective November 21, 2024, General License No. 53, dated November 10, 2022, is replaced and superseded in its entirety by this General License No. 53A.

Lisa M. Palluconi,

Acting Director, Office of Foreign Assets Control

Dated: November 21, 2024

OFFICE OF FOREIGN ASSETS CONTROL

Russian Harmful Foreign Activities Sanctions Regulations 31 CFR Part 587

GENERAL LICENSE NO. 55C

Authorizing Certain Services Related to Sakhalin-2

(a) Except as provided in paragraph (c) of this general license, all transactions prohibited by the determination of November 21, 2022 made pursuant to section 1(a)(ii) of Executive Order (E.O.) 14071 (“Prohibitions on Certain Services as They Relate to the Maritime Transport of Crude Oil of Russian Federation Origin”) related to the maritime transport of crude oil originating from the Sakhalin-2 project (“Sakhalin-2 byproduct”) are authorized through 12:01 a.m. eastern daylight time, June 28, 2025, provided that the Sakalin-2 byproduct is solely for importation into Japan.

(b) Except as provided in paragraph (c) of this general license, all transactions prohibited by E.O. 14024 involving Gazprombank Joint Stock Company (Gazprombank) or any entity in which Gazprombank owns, directly or indirectly, a 50 percent or greater interest, that are related to the Sakhalin-2 project, including such transactions involving Sakhalin Energy LLC, are authorized through 12:01 a.m. eastern daylight time, June 28, 2025.

(c) This general license does not authorize:

(1) Any transactions prohibited by Directive 2 under E.O. 14024, Prohibitions Related to Correspondent or Payable-Through Accounts and Processing of Transactions Involving Certain Foreign Financial Institutions;

(2) Any transactions prohibited by Directive 4 under E.O. 14024, Prohibitions Related to Transactions Involving the Central Bank of the Russian Federation, the National Wealth Fund of the Russian Federation, and the Ministry of Finance of the Russian Federation; or

(3) Any transactions otherwise prohibited by the Russian Harmful Foreign Activities Sanctions Regulations, 31 CFR part 587 (RuHSR), including transactions involving any person blocked pursuant to the RuHSR, other than the blocked persons described in paragraph (b), unless separately authorized.

(d) Effective November 21, 2024, General License No. 55B, dated June 26, 2024, is replaced and superseded in its entirety by this General License No. 55C.

Lisa M. Palluconi,

Acting Director, Office of Foreign Assets Control

Dated: November 21, 2024

OFFICE OF FOREIGN ASSETS CONTROL

Russian Harmful Foreign Activities Sanctions Regulations 31 CFR Part 587

GENERAL LICENSE NO. 113

Authorizing the Wind Down of Transactions Involving Certain Financial Institutions Blocked on November 21, 2024

(a) Except as provided in paragraph (b) of this general license, all transactions prohibited by Executive Order (E.O.) 14024 that are ordinarily incident and necessary to the wind down of transactions involving the blocked persons listed in the Annex to this general license, and any entity in which those blocked persons own, directly or indirectly, individually or in the aggregate, a 50 percent or greater interest, are authorized through 12:01 a.m. eastern standard time, December 20, 2024, provided that any payment to a blocked person is made into a blocked account in accordance with the Russian Harmful Foreign Activities Sanctions Regulations, 31 CFR part 587 (RuHSR).

(b) This general license does not authorize:

(1) Any transactions prohibited by Directive 2 under E.O. 14024, Prohibitions Related to Correspondent or Payable-Through Accounts and Processing of Transactions Involving Certain Foreign Financial Institutions;

(2) Any debit to an account on the books of a U.S. financial institution of the Central Bank of the Russian Federation, the National Wealth Fund of the Russian Federation, or the Ministry of Finance of the Russian Federation; or

(3) Any transactions otherwise prohibited by the RuHSR, including transactions involving any person blocked pursuant to the RuHSR other than the blocked persons described in paragraph (a) of this general license, unless separately authorized.

Lisa M. Palluconi,

Acting Director, Office of Foreign Assets Control

Dated: November 21, 2024

Annex—Blocked Persons Described in Paragraph (a) of General License 113

List of Blocked Persons Described in Paragraph (a) of General License 113 as of November 21, 2024:

(a) Aktsionernoe Obshchestvo Bank Agroros

(b) Bank Iturup LLC

(c) BBR Bank Joint Stock Company

(d) BCS Bank AO

(e) Bratsky Narodny Bank JSC

(f) Centrocredit Bank

(g) Commercial Bank Energotransbank Joint Stock Company

(h) Commercial Bank Khlynov Joint Stock Company

(i) Commercial Bank Kremlyovskiy

(j) Commercial Joint Stock Bank Viking

(k) Corporate Finance Bank LLC

(l) Fora Bank Joint Stock Commercial Bank

(m) Garant Invest Bank Joint Stock

(n) Gazprombank Joint Stock Company

(o) Interstate Bank

(p) Joint Stock Commercial Bank National Reserve Bank Joint Stock Company

(q) Joint Stock Commercial Bank Slavia Joint Stock Company

(r) Joint Stock Commercial Mortgage Bank Akibank Public Joint Stock Company

(s) Joint Stock Company Auto Finance Bank

(t) Joint Stock Company Bank Accept

(u) Joint Stock Company Bank Dom RF

(v) Joint Stock Company Bank Finservice

(w) Joint Stock Company Bank United Capital

(x) Joint Stock Company Coalmetbank

(y) Joint Stock Company Commercial Bank Ural FD

(z) Joint Stock Company Guta Bank

(aa) Joint Stock Company NS Bank

(bb) Joint Stock Company Public Trust Bank

(cc) Joint Stock Company Royal Credit Bank

(dd) Joint Stock Company Severgazbank

(ee) Joint Stock Investment Commercial Bank Eniseisk United Bank

(ff) JSC Exi Bank

(gg) JSCB Energobank

(hh) Kamsky Commercial Bank

(ii) Limited Liability Company Bank Orange

(jj) Limited Liability Company Bank Round

(kk) Limited Liability Company Krona Bank

(ll) National Standard Bank Joint Stock Company

(mm) New Moscow Bank

(nn) NK Bank Joint Stock Company

(oo) Primorsky Territorial Commercial Bank Society with Limited Liability

(pp) Public Joint Stock Commercial Bank Derzhava

(qq) Public Joint Stock Company Bank Alexandrovsky

(rr) Public Joint Stock Company Bank Sinara

(ss) Public Joint Stock Company Finstar Bank

(tt) Public Joint Stock Company Metkombank

(uu) Public Joint Stock Company National Bank Trust

(vv) Public Joint Stock Social Commercial Bank of Primorye Primsotsbank

(ww) Rossita Bank

(xx) Russian Public Joint Stock Commercial Roads Bank

(yy) Russian Universal Bank

(zz) Vitabank PJSC

(aaa) Waybank JSC

OFFICE OF FOREIGN ASSETS CONTROL

Russian Harmful Foreign Activities Sanctions Regulations 31 CFR Part 587

GENERAL LICENSE NO. 114

Authorizing Certain Transactions Related to Debt or Equity of, or Derivative Contracts Involving, Certain Entities Blocked on November 21, 2024

(a) Except as provided in paragraphs (d) and (e) of this general license, all transactions prohibited by Executive Order (E.O.) 14024 that are ordinarily incident and necessary to the divestment or transfer, or the facilitation of the divestment or transfer, of debt or equity issued or guaranteed by the following blocked entities (“Covered Debt or Equity”) to a non-U.S. person are authorized through 12:01 a.m. eastern standard time, December 20, 2024:

(1) Gazprombank Joint Stock Company;

(2) Interstate Bank; or

(3) Any entity in which one or more of the above persons own, directly or indirectly, individually or in the aggregate, a 50 percent or greater interest.

(b) Except as provided in paragraph (e) of this general license, all transactions prohibited by E.O. 14024 that are ordinarily incident and necessary to facilitating, clearing, and settling trades of Covered Debt or Equity that were placed prior to 4:00 p.m. eastern standard time, November 21, 2024 are authorized through 12:01 a.m. eastern standard time, December 20, 2024.

(c) Except as provided in paragraph (e) of this general license, all transactions prohibited by E.O. 14024 that are ordinarily incident and necessary to the wind down of derivative contracts entered into prior to 4:00 p.m. eastern standard time, November 21, 2024 that (i) include a blocked person described in paragraph (a) of this general license as a counterparty or (ii) are linked to Covered Debt or Equity are authorized through 12:01 a.m. eastern standard time, December 20, 2024, provided that any payments to a blocked person are made into a blocked account in accordance with the Russian Harmful Foreign Activities Sanctions Regulations, 31 CFR part 587 (RuHSR).

(d) Paragraph (a) of this general license does not authorize:

(1) U.S. persons to sell, or to facilitate the sale of, Covered Debt or Equity to, directly or indirectly, any person whose property and interests in property are blocked; or

(2) U.S. persons to purchase or invest in, or to facilitate the purchase of or investment in, directly or indirectly, Covered Debt or Equity, other than purchases of or investments in Covered Debt or Equity ordinarily incident and necessary to the divestment or transfer of Covered Debt or Equity as described in paragraph (a) of this general license.

(e) This general license does not authorize:

(1) Any transactions prohibited by Directive 2 under E.O. 14024, Prohibitions Related to Correspondent or Payable-Through Accounts and Processing of Transactions Involving Certain Foreign Financial Institutions;

(2) Any transactions prohibited by Directive 4 under E.O. 14024, Prohibitions Related to Transactions Involving the Central Bank of the Russian Federation, the National Wealth Fund of the Russian Federation, and the Ministry of Finance of the Russian Federation; or

(3) Any transactions otherwise prohibited by the RuHSR, including transactions involving any person blocked pursuant to the RuHSR other than the blocked persons described in paragraph (a) of this general license, unless separately authorized.

Lisa M. Palluconi,

Acting Director, Office of Foreign Assets Control

Dated: November 21, 2024

Lisa M. Palluconi,
Acting Director, Office of Foreign Assets Control.

[FR Doc. 2024-29676 Filed 12-17-24; 8:45 am]

BILLING CODE 4810-AL-P